DEPARTMENT OF COMMERCE

International Trade Administration

[A-570-908]

First Administrative Review of Sodium Hexametaphosphate From the People's Republic of China: Final Results of the Antidumping Duty Administrative Review

AGENCY: Import Administration, International Trade Administration, Department of Commerce.

SUMMARY: On April 15, 2010, the Department of Commerce (“Department”) published the Preliminary Results of the first administrative review of the antidumping duty order on sodium hexametaphosphate (“sodium hex”) from the People's Republic of China (“PRC”).¹ We gave interested parties an opportunity to comment on the Preliminary Results. Based upon our analysis of the comments and information received, we made changes to the margin calculation for the final results. We find that the sole participating respondent in this review, Hubei Xingfa Chemical Group Co., Ltd. (“Xingfa”), sold subject merchandise at less than normal value (“NV”) during the period of review (“POR”), September 14, 2007-February 28, 2009.

¹ See First Administrative Review of Sodium Hexametaphosphate from the People's Republic of China: Notice of Preliminary Results of the Antidumping Duty Administrative Review, 75 FR 19613 (April 15, 2010) (“Preliminary Results”).

DATES: Effective Date: October 20, 2010.

FOR FURTHER INFORMATION CONTACT: Paul Walker, AD/CVD Operations, Office 9, Import Administration, International Trade Administration, U.S. Department of Commerce, 14th Street and Constitution Avenue, NW., Washington, DC 20230; telephone: (202) 482-0413.

SUPPLEMENTARY INFORMATION:

Background

As noted above, on April 15, 2010, the Department published the Preliminary Results of this administrative review. On August 10, 2010, the Department published a notice extending the time period for issuing the final results by 53 days to October 5, 2010.² On October 5, 2010, the Department extended the time period for issuing the final results by an additional 7 days to October 12, 2010.³ On July 26, 2010, the Department placed wage rate data on the record for comment following the recent decision in Dorbest Limited et al. v. United States, 2009-1257, -1266, issued by the United States Court of Appeals for the Federal Circuit (“CAFC”) on May 14, 2010.⁴ Between May 21, 2010 and August 13, 2010, we received case and rebuttal briefs from the Petitioners ⁵ and Xingfa.

² See First Antidumping Duty Administrative Review of Sodium Hexametaphosphate from the People's Republic of China: Extension of Time Limit for the Final Results, 75 FR 48309 (August 10, 2010).

³ See First Antidumping Duty Administrative Review of Sodium Hexametaphosphate from the People's Republic of China: Extension of Time Limit for the Final Results, dated October 5, 2010.

⁴ See the “Changes Since the Preliminary Results” section below for a detailed explanation of the Department's revised wage rate for these final results.

⁵ ICL Performance Products and Innophos, Inc. (collectively, the “Petitioners”).

Analysis of Comments Received

All issues raised in the case and rebuttal briefs by parties are addressed in the “First Administrative Review of Sodium Hexametaphosphate from the People's Republic of China: Issues and Decision Memorandum for the Final Results,” which is dated concurrently with this notice (“I&D Memo”). A list of the issues which parties raised, and to which we respond in the I&D Memo, is attached to this notice as an Appendix. The I&D Memo is a public document and is on file in the Central Records Unit (“CRU”), Main Commerce Building, Room 7046, and is accessible on the Department's Web site at http://www.trade.gov/ia. The paper copy and electronic version of the memorandum are identical in content.

Changes Since the Preliminary Results

Based on a review of the record, as well as comments received from parties regarding our Preliminary Results, we have made revisions to Xingfa's margin calculation for the final results. We have revised classifications for certain expenses in the surrogate financial ratios used in the Preliminary Results. Specifically, we have excluded packing costs and freight and forwarding costs because it is the Department's practice to exclude certain expenses in order to avoid double-counting costs where the requisite data are available to do so.⁶ Moreover, consistent with the Department's practice, we have included purchased goods in the denominator of the SG&A and profit ratio calculations.⁷

⁶ See, e.g., Helical Spring Lock Washers From the People's Republic of China: Final Results of Antidumping Duty Administrative Review, 73 FR 4175 (January 24, 2008) (where the Department clearly articulated its practice to avoid double-counting costs in calculating dumping margins); see also I&D Memo at Comment 4.

⁷ See Amended Final Results of the First Antidumping Duty Administrative Review: Folding Metal Tables and Chairs From the People's Republic of China, 70 FR 3187 (January 21, 2005); see also I&D Memo at Comment 4.

Pursuant to a recent decision by the CAFC,⁸ we have calculated a revised hourly wage rate to use in valuing Xingfa's reported labor. The revised wage rate is calculated by averaging earnings and/or wages in countries that are economically comparable to the PRC and that are significant producers of comparable merchandise.⁹ Additionally, we have revised the surrogate value for sodium pyrophosphate.¹⁰

⁸ Dorbest v. United States, 604 F. 3d 1363 (Fed. Cir. 2010).

⁹ See I&D Memo at Comment 3E; see also Final SV Memo for the details of the calculation and supporting data.

¹⁰ See I&D Memo at Comment 3A; see also Memorandum to the File, through Scot T. Fullerton, Program Manager, Office IX, from Paul Walker, Case Analyst, Office IX, “First Administrative Review of Sodium Hexametaphosphate from the People's Republic of China: Surrogate Factor Valuations for the Final Results” (“Final SV Memo”), dated concurrently with this notice.

Scope of the Order

The merchandise subject to this review is sodium hexametaphosphate. Sodium hexametaphosphate is a water-soluble polyphosphate glass that consists of a distribution of polyphosphate chain lengths. It is a collection of sodium polyphosphate polymers built on repeating NaPO3 units. Sodium hexametaphosphate has a P2O5 content from 60 to 71 percent. Alternate names for sodium hexametaphosphate include the following: Calgon; Calgon S; Glassy Sodium Phosphate; Sodium Polyphosphate, Glassy; Metaphosphoric Acid; Sodium Salt; Sodium Acid Metaphosphate; Graham's Salt; Sodium Hex; Polyphosphoric Acid, Sodium Salt; Glass H; Hexaphos; Sodaphos; Vitrafos; and BAC-N-FOS. Sodium hexametaphosphate is typically sold as a white powder or granule (crushed) and may also be sold in the form of sheets (glass) or as a liquid solution. It is imported under heading 2835.39.5000, HTSUS. It may also be imported as a blend or mixture under heading 3824.90.3900, HTSUS. The American Chemical Society, Chemical Abstract Service (“CAS”) has assigned the name “Polyphosphoric Acid, Sodium Salt” to sodium hexametaphosphate. The CAS registry number is 68915-31-1. However, sodium hexametaphosphate is commonly identified by CAS No. 10124-56-8 in the market. For purposes of the review, the narrative description is dispositive, not the tariff heading, CAS registry number or CAS name.

The product covered by this review includes sodium hexametaphosphate in all grades, whether food grade or technical grade. The product covered by this review includes sodium hexametaphosphate without regard to chain length i.e., whether regular or long chain. The product covered by this review includes sodium hexametaphosphate without regard to physical form, whether glass, sheet, crushed, granule, powder, fines, or other form, and whether or not in solution.

However, the product covered by this review does not include sodium hexametaphosphate when imported in a blend with other materials in which the sodium hexametaphosphate accounts for less than 50 percent by volume of the finished product.

Final Results of Review

The weighted-average dumping margin for the POR is as follows:

Manufacturer/exporter | Weighted average margin (percent)
Hubei Xingfa | 82.62

Assessment

Upon issuance of the final results, the Department will determine, and U.S. Customs and Border Protection (“CBP”) shall assess, antidumping duties on all appropriate entries. The Department intends to issue assessment instructions to CBP 15 days after the date of publication of the final results of review. Pursuant to 19 CFR 351.212(b)(1), we will calculate importer-specific (or customer) ad valorem duty assessment rates based on the ratio of the total amount of the dumping margins calculated for the examined sales to the total entered value of those same sales. In accordance with 19 CFR 351.106(c)(2), we will instruct CBP to liquidate, without regard to antidumping duties, all entries of subject merchandise during the POR for which the importer-specific assessment rate is zero or de minimis.

Cash Deposit Requirements

The following cash deposit requirements will be effective upon publication of these final results of this administrative review for all shipments of the subject merchandise entered, or withdrawn from warehouse, for consumption on or after the publication date, as provided for by section 751(a)(2)(C) of the Act: (1) For the exporters listed above, the cash deposit rate will be the rate established in these final results of review (except, if the rate is zero or de minimis, i.e., less than 0.5 percent, a zero cash deposit rate will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 188.05 percent; and (4) for all non-PRC exporters of subject merchandise which have not received their own rate, the cash deposit rate will be the rate applicable to the PRC exporters that supplied that non-PRC exporter. These deposit requirements, when imposed, shall remain in effect until publication of the final results of the next administrative review.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: October 12, 2010.
Ronald K. Lorentzen,
Deputy Assistant Secretary for Import Administration.

Appendix I—Issues & Decision Memorandum

Comment 1: Inputs to Inputs—Electricity

Comment 2: Date of Sale

Comment 3: Surrogate Values

A. Sodium Pyrophosphate

B. Coal

C. Coke

D. Phosphate Slag

E. Labor

Comment 4: Surrogate Financial Ratios

Comment 5: Placement of By-products in the Normal Value Calculation

[FR Doc. 2010-26458 Filed 10-19-10; 8:45 am]

BILLING CODE 3510-DS-P